DEPARTMENT OF HOMELAND SECURITY

U.S. Citizenship and Immigration Services

Agency Information Collection Activities: New Information Collection; Comment Request

ACTION: 30-day notice of information collection under review; Application for Immediate Family Member of U-1 Recipient; and U Nonimmigrant Status Certification; Forms I-918; I-918 Supplement A; and I-918 Supplement B.

The Department of Homeland Security, U.S. Citizenship and Immigration Services (USCIS) has submitted the following information collection request to the Office of Management and Budget (OMB) for review and clearance in accordance with the Paperwork Reduction Act of 1995. The information collection was previously published in the Federal Register on December 5, 2005, at 70 FR 72460. The notice allowed for a 60-day public comment period. USCIS received 55 comments on this information collection. These comments and any changes to the form as a result of these comments have been addressed in the supporting statement submitted to OMB.

The purpose of this notice is to allow an additional 30 days for public comments. Comments are encouraged and will be accepted until July 3, 2006. This process is conducted in accordance with 5 CFR 1320.10.

Written comments and/or suggestions regarding the item(s) contained in this notice, especially regarding the estimated public burden and associated response time, should be directed to the Department of Homeland Security (DHS), USCIS, Director, Regulatory Management Division, Clearance Office, 111 Massachusetts Avenue, 3rd floor, Washington, DC 20529. Comments may also be submitted to DHS via facsimile to 202-272-8352 or via e-mail at rfs.regs@dhs.gov. When submitting comments by e-mail please make sure to add Form No. I-918, in the subject box. Written comments and suggestions from the public and affected agencies should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: Application for Immediate Family Member of U-1 Recipient; and U Nonimmigrant Status Certification.

(3) Agency form number, if any, and the applicable component of the Department of Homeland Security sponsoring the collection: Forms I-918; I-918 Supplement A; and I-918 Supplement B; U.S. Citizenship and Immigration Services.

(4) Affected public who will be asked or required to respond, as well as a brief abstract: Primary: Individuals or households, Federal Government. This application permits victims of certain qualifying criminal activity and their immediate family members to demonstrate that they qualify for temporary nonimmigrant status pursuant to the Victims of Trafficking and Violence Protection Act of 2000 (VTVPA), and to receive temporary immigration benefits.

(5) An estimate of the total number of respondents and the amount of time estimated for an average respondent to respond: Form I-918—12,000 responses at 5 hours per response; Supplement A—24,000 responses at 1.5 hour per response; Supplement B—12,000 responses at 1 hour per response.

(6) An estimate of the total public burden (in hours) associated with the collection: 108,000 annual burden hours.

If you have additional comments, suggestions, or need a copy of the proposed information collection instrument with instructions, or additional information, please visit the USCIS Web site at: http://uscis.gov/graphics/formsfee/forms/pra/index.htm.

If additional information is required contact: USCIS, Regulatory Management Division, 111 Massachusetts Avenue, 3rd Floor, Washington, DC 20529, (202) 272-8377.

Dated: May 30, 2006.
Richard A. Sloan,
Director, Regulatory Management Division, U.S. Citizenship and Immigration Services.

[FR Doc. E6-8579 Filed 6-1-06; 8:45 am]

BILLING CODE 4410-10-P